DEPARTMENT OF HOMELAND SECURITY

Coast Guard

33 CFR Part 165

[Docket Number USCG-2015-1029]

RIN 1625-AA00

Safety Zones; Coast Guard Sector Ohio Valley Annual and Recurring Safety Zones Update

AGENCY: Coast Guard, DHS.

ACTION: Notice of proposed rulemaking.

SUMMARY: The Coast Guard proposes to amend and update its list of recurring safety zone regulations that take place in the Coast Guard Sector Ohio Valley area of responsibility (AOR). This notice informs the public of regularly scheduled events that require additional safety measures through establishing a safety zone. Through this notice the current list of recurring safety zones is proposed to be updated with revisions, additional events, and removal of events that no longer take place in Sector Ohio Valley's AOR. When these safety zones are enforced, vessel traffic is restricted from specified areas. Additionally, this one proposed rulemaking project reduces administrative costs involved in producing separate proposed rules for each individual recurring safety zone and serves to provide notice of the known recurring safety zones throughout the year.

DATES: Comments and related material must be received by the Coast Guard on or before June 6, 2016.

ADDRESSES: You may submit comments identified by docket number USCG-2015-1029 using the Federal eRulemaking Portal at http://www.regulations.gov. See the “Public Participation and Request for Comments” portion of the SUPPLEMENTARY INFORMATION section for further instructions on submitting comments.

FOR FURTHER INFORMATION CONTACT: If you have questions on this proposed rule, call or email Petty Officer James Robinson, Sector Ohio Valley, U.S. Coast Guard; telephone (502) 779-5347, email James.C.Robinson@uscg.mil.

SUPPLEMENTARY INFORMATION:

I. Table of Abbreviations

CFR Code of Federal Regulations

DHS Department of Homeland Security

E.O. Executive order

FR Federal Register

NPRM Notice of proposed rulemaking

Pub. L. Public Law

§ Section

U.S.C. United States Code

II. Background, Purpose, and Legal Basis

The legal basis for the rule is 33 U.S.C. 1231; 50 U.S.C. 191; 33 CFR 1.05-1, 6.04-1, 6.04-6, and 160.5; and Department of Homeland Security Delegation No. 0170.1, which collectively authorize the Coast Guard to define regulatory safety zones.

The Captain of the Port (COTP) Ohio Valley is proposing to establish, amend, and update its current list of recurring safety zone regulations.

These safety zones are proposed to be added, amended, and updated to the list of annually recurring safety zones under 33 CFR 165.801 in Table no. 1 for annual safety zones in the COTP Ohio Valley zone. The Coast Guard will address all comments accordingly, whether through response, additional revision to the regulation, or otherwise. Additionally, these recurring events are provided to the public through local avenues and planned by the local communities.

The current list of annual and recurring safety zones occurring in Sector Ohio Valley's AOR is published under 33 CFR part 165.801. That most recent list was created August 18, 2015 through the rulemaking 80 FR 49911, which finalized the interim rule published April 22, 2014, 79 FR 22398, which received no adverse comments. The August 18, 2015 rulemaking established 33 CFR 165.801 creating the current comprehensive list of recurring safety zones.

The Coast Guard is amending and updating the safety zone regulations under 33 CFR part 165 to include the most up to date list of recurring safety zones for events held on or around navigable waters within Sector Ohio Valley's AOR. These events include air shows, fireworks displays, and other marine related events requiring a limited access area restricting vessel traffic for safety purposes. The current list under 33 CFR 165.801 requires amending to provide new information on existing safety zones, updating to include new safety zones expected to recur annually or biannually, and to remove safety zones that are no longer required. Issuing individual regulations for each new safety zone, amendment, or removal of an existing safety zone creates unnecessary administrative costs and burdens. This single proposed rulemaking will considerably reduce administrative overhead and provides the public with notice through publication in the Federal Register of the upcoming recurring safety zone regulations.

The Coast Guard encourages the public to participate in this proposed rulemaking through the comment process so that any necessary changes can be identified and implemented in a timely and efficient manner.

III. Discussion of the Rule

33 CFR part 165 contains regulations establishing limited access areas to restrict vessel traffic for the safety of persons and property. Section 165.801 establishes recurring safety zones to restrict vessel transit into and through specified areas to protect spectators, mariners, and other persons and property from potential hazards presented during certain events taking place in Sector Ohio Valley's AOR. This section requires amendment from time to time to properly reflect the recurring safety zone regulations in Sector Ohio Valley's AOR. This proposed rule amends and updates Section 165.801 replacing the current Table 1 for Sector Ohio Valley.

Additionally, this proposed rule adds 13 new recurring safety zones and removes 6 safety zones.

Thirteen new recurring safety zones are proposed to be added under the new Table 1 of § 165.801 for Sector Ohio Valley, as follows:

Date | Event/sponsor | Ohio Valley location | Regulated area
1 day—Last weekend in June or first weekend in July | Riverview Park Independence Festival | Louisville, KY | Ohio River, Mile 618.5-619.5 (Kentucky).
1 day—First weekend in June | Bellaire All-American Days | Bellaire, OH | Ohio River, Mile 93.5-94.5 (Ohio).
2 days—Second weekend of June | Rice's Landing Riverfest | Rices Landing, PA | Monongahela River, Mile 68.0-68.8 (Pennsylvania).
1 day—Second full week of August | PA FOB Fireworks Display | Pittsburgh, PA | Allegheny River, Mile 0.8-1.0 (Pennsylvania).
1 day—Third week of August | Beaver River Regatta Fireworks | Beaver, PA | Ohio River, Mile 25.2-25.8 (Pennsylvania).
1 day—Fourth or Fifth of July | City of Cape Girardeau July 4th Fireworks Show on the River | Cape Girardeau, MO | Upper Mississippi River, Mile 50.0-52.0 (Missouri).
Last Sunday in May | Friends of Ironton | Ironton, OH | Ohio River, Mile 326.7-327.7 (Ohio).
July 4th | Greenup City | Greenup, KY | Ohio River, Mile 335.2-336.2 (Kentucky).
July 4th | Middleport Community Association | Middleport, OH | Ohio River, Mile 251.5-252.5 (Ohio).
Second Saturday in September | Ohio River Sternwheel Festival Committee fireworks | Marietta, OH | Ohio River, Mile 171.5-172.5 (Ohio).
July 4th | People for the Point Party in the Park | South Point, OH | Ohio River, Mile 317-318 (Ohio).
1 day—Friday before Thanksgiving | Kittanning Light Up Night Firework Display | Kittanning, PA | Allegheny River, Mile 44.5-45.5 (Pennsylvania).
First Saturday in October | West Virginia Motor Car Festival | Charleston, WV | Kanawha River, Mile 58-59 (West Virginia).

This proposed rule removes the following 6 safety zone regulations from the existing Table 1 Part of § 165.801 for Sector Ohio Valley, as follows:

Date | Event/sponsor | Ohio Valley location | Regulated area
1 day—July 4th | Downtown Henderson Project/Henderson Independence Bank Fireworks | Henderson, KY | Ohio River, Mile 803.5-804.5 (Kentucky).
1 day—First or second weekend in October | Zambelli Fireworks/American Pyrotechnic Association Annual Convention Fireworks Display | Louisville, KY | Ohio River, Miles 602.0-606.0 (Kentucky).
1 day—July 4th | Lake Guntersville Chamber of Commerce/Lake Guntersville 4th of July Celebration | Guntersville, AL | Tennessee River, Mile 356.0-358.0 (Alabama).
1 day—July 3rd or the weekend before July 3rd if the 3rd is on a weekday | City of Clarksville/Clarksville Independence Day Fireworks | Clarksville, TN | Cumberland River, Mile 103.0-105.0 (Tennessee).
1 day—Labor Day weekend | Knoxville Tourism and Sports Corporation/Boomsday Festival | Knoxville, TN | Tennessee River, Mile 647.0-648.0 (Tennessee).
1 day—Friday after Thanksgiving | Chattanooga Presents/Grand Illumination | Chattanooga, TN | Tennessee River, Mile 463.0-469.0 (Tennessee).

The effect of this proposed rule will be to restrict general navigation in the safety zone during the event. Vessels intending to transit the designated waterway through the safety zone will only be allowed to transit the area when the COTP Ohio Valley, or designated representative, has deemed it safe to do so or at the completion of the event. The proposed annually recurring safety zones are necessary to provide for the safety of life on navigable waters during the events.

IV. Regulatory Analyses

We developed this proposed rule after considering numerous statutes and executive orders (E.O.s) related to rulemaking. Below we summarize our analyses based on a number of these statutes and E.O.s, and we discuss First Amendment rights of protestors.

A. Regulatory Planning and Review

E.O.s 12866 and 13563 direct agencies to assess the costs and benefits of available regulatory alternatives and, if regulation is necessary, to select regulatory approaches that maximize net benefits. E.O. 13563 emphasizes the importance of quantifying both costs and benefits, of reducing costs, of harmonizing rules, and of promoting flexibility. This proposed rule has not been designated a “significant regulatory action,” under E.O. 12866. Accordingly, it has not been reviewed by the Office of Management and Budget.

The Coast Guard expects the economic impact of this proposed rule to be minimal, therefore a full regulatory evaluation is unnecessary. This proposed rule establishes safety zones limiting access to certain areas under 33 CFR part 165 within Sector Ohio Valley's AOR. The effect of this proposed rulemaking will not be significant because these safety zones are limited in scope and duration. Additionally, the public is given advance notification through local forms of notice, the Federal Register, and/or Notices of Enforcement and thus will be able to plan operations around the safety zones in advance. Deviation from the safety zones established through this proposed rulemaking may be requested from the appropriate COTP and requests will be considered on a case-by-case basis. Broadcast Notices to Mariners and Local Notices to Mariners will also inform the community of these safety zones so that they may plan accordingly for these short restrictions on transit. Vessel traffic may request permission from the COTP Ohio Valley or a designated representative to enter the restricted area.

B. Impact on Small Entities

The Regulatory Flexibility Act of 1980 (RFA), 5 U.S.C. 601 through 612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule will not have a significant economic impact on a substantial number of small entities.

This proposed rule will affect the following entities, some of which may be small entities: The owners or operators of vessels intending to transit the safety zone areas during periods of enforcement. The safety zones will not have a significant economic impact on a substantial number of small entities because they are limited in scope and will be in effect for short periods of time. Before the enforcement period, the Coast Guard COTP will issue maritime advisories widely available to waterway users. Deviation from the safety zones established through this proposed rulemaking may be requested from the appropriate COTP and requests will be considered on a case-by-case basis.

Under section 213(a) of the Small Business Regulatory Enforcement Fairness Act of 1996 (Pub. L. 104-121), we want to assist small entities in understanding this proposed rule. If the proposed rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this proposed rule or any policy or action of the Coast Guard.

C. Collection of Information

This proposed rule will not call for a new collection of information under the Paperwork Reduction Act of 1995 (44 U.S.C. 3501 through 3520.).

D. Federalism and Indian Tribal Governments

A rule has implications for federalism under E.O. 13132, Federalism, if it has a substantial direct effect on the States, on the relationship between the national government and the States, or on the distribution of power and responsibilities among the various levels of government. We have analyzed this rule under that Order and have determined that it is consistent with the fundamental federalism principles and preemption requirements described in E.O. 13132.

Also, this rule does not have tribal implications under E.O. 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section above.

E. Unfunded Mandates Reform Act

The Unfunded Mandates Reform Act of 1995 (2 U.S.C. 1531 through 1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. This proposed rule is categorically excluded under section 2.B.2, figure 2-1, paragraph (34(g) of the Instruction because it involves establishment of safety zones. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this NPRM as being available in the docket, and all public comments, will be in our online docket at http://www.regulations.gov and can be viewed by following that Web site's instructions. Additionally, if you go to the online docket and sign up for email alerts, you will be notified when comments are posted or a final rule is published.

List of Subjects in 33 CFR Part 165

Harbors, Marine safety, Navigation (water), Reporting and recordkeeping requirements, Security measures, Waterways.

For the reasons discussed in the preamble, the U.S. Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1, 6.04-1, 6.04-6, and 160.5; Department of Homeland Security Delegation No. 0170.1.

2. Amend § 165.801 by revising table 1 to read as follows:

§ 165.801 Annual fireworks displays and other events in the Eighth Coast Guard District requiring safety zones.

* * * * *

Table 1 of § 165.801—Sector Ohio Valley Annual and Recurring Safety Zones
Date | Sponsor/name | Location | Safety zone
1. Multiple days—April through November | Pittsburgh Pirates/Pittsburgh Pirates Fireworks | Pittsburgh, PA | Allegheny River, Mile 0.2-0.8 (Pennsylvania).
2. Multiple days—April through November | Cincinnati Reds/Cincinnati Reds Season Fireworks | Cincinnati, OH | Ohio River, Mile 470.1-470.4; extending 500 ft. from the State of Ohio shoreline (Ohio).
3. 2 days—Third Friday and Saturday in April | Thunder Over Louisville/Thunder Over Louisville | Louisville, KY | Ohio River, Mile 602.0-606.0 (Kentucky).
4. Last Sunday in May | Friends of Ironton | Ironton, OH | Ohio River, Mile 326.7-327.7 (Ohio).
5. 3 days—Third weekend in April | Henderson Tri-Fest/Henderson Breakfast Lions Club | Henderson, KY | Ohio River, Mile 803.5-804.5 (Kentucky).
6. 1 day—A Saturday in July | Paducah Parks and Recreation Department/Cross River Swim | Paducah, KY | Ohio River, Mile 934.0-936.0 (Kentucky).
7. 1 day—First weekend in June | Bellaire All-American Days | Bellaire, OH | Ohio River, Mile 93.5-94.5 (Ohio).
8. 2 days—Second weekend of June | Rice's Landing Riverfest | Rices Landing, PA | Monongahela River, Mile 68.0-68.8 (Pennsylvania).
9. 1 day—First Sunday in June | West Virginia Symphony Orchestra/Symphony Sunday | Charleston, WV | Kanawha River, Mile 59.5-60.5 (West Virginia).
10. 1 day—Saturday before 4th of July | Riverfest Inc./Saint Albans Riverfest | St. Albans, WV | Kanawha River, Mile 46.3-47.3 (West Virginia).
11. 1 day—4th July | Greenup City | Greenup, KY | Ohio River, Mile 335.2-336.2 (Kentucky).
12. 1 day—4th July | Middleport Community Association | Middleport, OH | Ohio River, Mile 251.5-252.5 (Ohio).
13. 1 day—4th July | People for the Point Party in the Park | South Point, OH | Ohio River, Mile 317-318 (Ohio).
14. 1 day—Last weekend in June or first weekend in July | Riverview Park Independence Festival | Louisville, KY | Ohio River, Mile 618.5-619.5 (Kentucky).
15. 1 day—Third or fourth week in July | Upper Ohio Valley Italian Heritage Festival/Upper Ohio Valley Italian Heritage Festival Fireworks | Wheeling, WV | Ohio River, Mile 90.0-90.5 (West Virginia).
16. 1 day—4th or 5th of July | City of Cape Girardeau July 4th Fireworks Show on the River | Cape Girardeau, MO | Upper Mississippi River, Mile 50.0-52.0.
17. 1 day—Third or fourth of July | Harrah's Casino/Metropolis Fireworks | Metropolis, IL | Ohio River, Mile 942.0-945.0 (Illinois).
18. 1 day—During the first week of July | Louisville Bats Baseball Club/Louisville Bats Firework Show | Louisville, KY | Ohio River, Mile 603.0-604.0 (Kentucky).
19. 1 day—July 4th | Waterfront Independence Festival/Louisville Orchestra Waterfront 4th | Louisville, KY | Ohio River, Mile 603.0-604.0 (Kentucky).
20. 1 day—During the first week of July | Celebration of the American Spirit Fireworks/All American 4th of July | Owensboro, KY | Ohio River, Mile 755.0-759.0 (Kentucky).
21. 1 day—During the first week of July | Riverfront Independence Festival Fireworks | New Albany, IN | Ohio River, Mile 602.0-603.5 (Indiana).
22. 1 day—July 4th | Shoals Radio Group/Spirit of Freedom Fireworks | Florence, AL | Tennessee River, Mile 255.0-257.0 (Alabama).
23. 1 day—Saturday before July 4th | Town of Cumberland City/Lighting up the Cumberlands Fireworks | Cumberland City, TN | Cumberland River, Mile 103.0-105.0 (Tennessee).
24. 1 day—July 4th | Knoxville office of Special Events/Knoxville July 4th Fireworks | Knoxville, TN | Tennessee River, Mile 647.0-648.0 (Tennessee).
25. 1 day—July 4th | NCVC/Music City July 4th | Nashville, TN | Cumberland River, Mile 190.0-192.0 (Tennessee).
26. 1 day—Saturday before July 4th, or Saturday after July 4th | Grand Harbor Marina/Grand Harbor Marina July 4th Celebration | Counce, TN | Tennessee-Tombigbee Waterway, Mile 450.0-450.5 (Tennessee).
27. 1 day—Second Saturday in July | City of Bellevue, KY/Bellevue Beach Park Concert Fireworks | Bellevue, KY | Ohio River, Mile 468.2-469.2 (Kentucky and Ohio).
28. 1 day—Sunday before Labor Day | Cincinnati Bell, WEBN, and Proctor and Gamble/Riverfest | Cincinnati, OH | Ohio River, Mile 469.2-470.5 (Kentucky and Ohio).
29. 1 day—July 4th | Summer Motions Inc./Summer Motion | Ashland, KY | Ohio River, Mile 322.1-323.1 (Kentucky).
30. 1 day—Last weekend in June or First weekend in July | City of Point Pleasant/Point Pleasant Sternwheel Fireworks | Point Pleasant, WV | Ohio River, Mile 265.2-266.2 (West Virginia).
31. 1 day—July 3rd or 4th | City of Charleston/City of Charleston Independence Day Celebration | Charleston, WV | Kanawha River, Mile 58.1-59.1 (West Virginia).
32. 1 day—July 4th | Civic Forum/Civic Forum 4th of July Celebration | Portsmouth, OH | Ohio River, Mile 355.5-356.5 (Ohio).
33. 1 day—Second Saturday in August | Guyasuta Days Festival/Borough of Sharpsburg | Pittsburgh, PA | Allegheny River, Mile 005.5-006.0 (Pennsylvania).
34. 1 day—Third week in October | Pittsburgh Foundation/Bob O'Connor Cookie Cruise | Pittsburgh, PA | Ohio River, Mile 0.0-0.5 (Pennsylvania).
35. 1 day—Second full week of August | PA FOB Fireworks Display | Pittsburgh, PA | Allegheny River, Mile 0.8-1.0 (Pennsylvania).
36. 1 day—Third week of August | Beaver River Regatta Fireworks | Beaver, PA | Ohio River, Mile 25.2-25.8 (Pennsylvania).
37. 1 day—December 31 | Pittsburgh Cultural Trust/Highmark First Night Pittsburgh | Pittsburgh, PA | Allegheny River Mile, 0.5-1.0 (Pennsylvania).
38. 1 day—Friday before Thanksgiving | Pittsburgh Downtown Partnership/Light Up Night | Pittsburgh, PA | Allegheny River, Mile 0.0-1.0 (Pennsylvania).
39. Multiple days—April through November | Pittsburgh Riverhounds/Riverhounds Fireworks | Pittsburgh, PA | Monongahela River, Mile 0.22-0.77. (Pennsylvania).
40. 3 days—Second or third weekend in June | Hadi Shrine/Evansville Freedom Festival Air Show | Evansville, IN | Ohio River, Miles 791.0-795.0 (Indiana).
41. 1 day—Second or third Saturday in June, the last day of the Riverbend Festival | Friends of the Festival, Inc./Riverbend Festival Fireworks | Chattanooga, TN | Tennessee River, Mile 463.5-464.5 (Tennessee).
42. 2 days—Second Friday and Saturday in June | City of Newport, KY/Italianfest | Newport, KY | Ohio River, Miles 469.6-470.0 (Kentucky and Ohio).
43. 1 day—Last Saturday in June | City of Aurora/Aurora Firecracker Festival | Aurora, IN | Ohio River Mile, 496.7; 1400 ft. radius from the Consolidated Grain Dock located along the State of Indiana shoreline at (Indiana and Kentucky).
44. 1 day—second weekend in June | City of St. Albans/St. Albans Town Fair | St. Albans, WV | Kanawha River, Mile 46.3-47.3 (West Virginia).
45. 1 day—Saturday before July 4th | PUSH Beaver County/Beaver County Boom | Beaver, PA | Ohio River, Mile 24.0-25.6 (Pennsylvania).
46. 1 day—4th of July (Rain date—July 5th) | Monongahela Area Chamber of Commerce/Monongahela 4th of July Celebration | Monongahela, PA | Monongahela River, Mile 032.0-033.0 (Pennsylvania).
47. 1 day—Saturday Third or Fourth full week of July (Rain date—following Sunday) | Oakmont Yacht Club/Oakmont Yacht Club Fireworks | Oakmont, PA | Allegheny River, Mile 12.0-12.5 (Pennsylvania).
48. 1 day—Week of July 4th | Three Rivers Regatta Fireworks/EQT 4th of July Celebration | Pittsburgh, PA | Ohio River, Mile 0.0-0.5, Allegheny River, Mile 0.0-0.5, and Monongahela River, Mile 0.0-0.5 (Pennsylvania).
49. 1 day—3rd or 4th of July | City of Paducah, KY | Paducah, KY | Ohio River, Mile 934.0-936.0; Tennessee River, mile 0.0—1.0 (Kentucky).
50. 1 day—3rd or 4th of July | City of Hickman, KY | Hickman, KY | Lower Mississippi River, Mile 921.0-923.0 (Kentucky).
51. 1 day—During the first week of July | Evansville Freedom Celebration | Evansville, IN | Ohio River, Miles 791.0-795.0 (Indiana).
52. 3 days—One of the first two weekends in July | Madison Regatta, Inc./Madison Regatta | Madison, IN | Ohio River, Miles 555.0-560.0 (Indiana).
53. 1 day—July 4th | Cities of Cincinnati, OH and Newport, KY/July 4th Fireworks | Newport, KY | Ohio River, Miles 469.6-470.2 (Kentucky and Ohio).
54. 2 days—second weekend in July | Marietta Riverfront Roar/Marietta Riverfront Roar | Marietta, OH | Ohio River, Mile 171.6-172.6 (Ohio).
55. 1 day—1st weekend in July | Gallia County Chamber of Commerce/Gallipolis River Recreation Festival | Gallipolis, OH | Ohio River, Mile 269.5-270.5 (Ohio).
56. 1 day—July 4th | Kindred Communications/Dawg Dazzle | Huntington, WV | Ohio River, Mile 307.8-308.8 (West Virginia).
57. 1 day—Last weekend in August | Swiss Wine Festival/Swiss Wine Festival Fireworks Show | Ghent, KY | Ohio River, Mile 537 (Kentucky).
58. 1 day—Saturday of Labor Day weekend | University of Pittsburgh Athletic Department/University of Pittsburgh Fireworks | Pittsburgh, PA | Allegheny River, Mile 0.0-0.25 (Pennsylvania).
59. Sunday, Monday, or Thursday from September through January | Pittsburgh Steelers Fireworks | Pittsburgh, PA | Ohio River, Mile 0.3-Allegheny River, Mile 0.2 (Pennsylvania).
60. 3 days—Third weekend in September | Wheeling Heritage Port Sternwheel Festival Foundation/Wheeling Heritage Port Sternwheel Festival | Wheeling, WV | Ohio River, Mile 90.2-90.7 (West Virginia).
61. 1 day—Second Saturday in September | Ohio River Sternwheel Festival Committee fireworks | Marietta, OH | Ohio River, Mile 171.5-172.5 (Ohio).
62. 1 day—Second weekend of October | Leukemia and Lymphoma Society/Light the Night Walk Fireworks | Nashville, TN | Cumberland River, Mile 190.0-192.0 (Tennessee).
63. 1 day—First Saturday in October | West Virginia Motor Car Festival | Charleston, WV | Kanawha River, Mile 58-59 (West Virginia).
64. 1 day—Friday before Thanksgiving | Kittanning Light Up Night Firework Display | Kittanning, PA | Allegheny River, Mile 44.5-45.5 (Pennsylvania).
65. 1 day—First week in October | Leukemia & Lymphoma Society/Light the Night | Pittsburgh, PA | Ohio River, Mile 0.0-0.4 (Pennsylvania).
66. 1 day—Friday before Thanksgiving | Duquesne Light/Santa Spectacular | Pittsburgh, PA | Monongahela River, Mile 0.00-0.22, Allegheny River, Mile 0.00-0.25, and Ohio River, Mile 0.0-0.3 (Pennsylvania).

* * * * *

Dated: January 5, 2016.
R.V. Timme,
Captain, U.S. Coast Guard, Captain of the Port Ohio Valley.

[FR Doc. 2016-05032 Filed 3-4-16; 8:45 am]

BILLING CODE 9110-04-P